DEPARTMENT OF ENERGY

Federal Energy Regulatory Commission

Combined Notice of Filings # 1

September 17, 2009.

Take notice that the Commission received the following exempt wholesale generator filings:

Docket Numbers: EG09-93-000.

Applicants: Elmwood Park Power LLC.

Description: Notice of Self Certification of Exempt Wholesale Generator Status of Elmwood Park Power LLC.

Filed Date: 09/17/2009.

Accession Number: 20090917-5010.

Comment Date: 5 p.m. Eastern Time on Thursday, October 08, 2009.

Take notice that the Commission received the following electric rate filings:

Docket Numbers: ER09-863-003.

Applicants: SMART Papers Holdings, LLC.

Description: SMART Papers Holdings, LLC submits supplement its 3/23/09 Application and its July 20 and Aug. 21, 2009 Supplemental Filing for Market Based Rate Authority.

Filed Date: 09/16/2009.

Accession Number: 20090916-0098.

Comment Date: 5 p.m. Eastern Time on Wednesday, October 07, 2009.

Docket Numbers: ER09-1472-001.

Applicants: Viridian Energy, Inc.

Description: Viridian Energy, Inc submits Original Sheet 1 et al. to its FERC Electric Tariff, Original Volume 1, effective September 10, 2009.

Filed Date: 09/15/2009.

Accession Number: 20090916-0093.

Comment Date: 5 p.m. Eastern Time on Tuesday, October 06, 2009.

Take notice that the Commission received the following open access transmission tariff filings:

Docket Numbers: OA08-34-002.

Applicants: Public Service Company of New Mexico.

Description: Public Service Company of New Mexico submits Second Revised Sheet 147E et al. to FERC Electric Tariff, Second Revised Volume 6.

Filed Date: 09/14/2009.

Accession Number: 20090916-0013.

Comment Date: 5 p.m. Eastern Time on Monday, October 05, 2009.

Docket Numbers: OA08-47-002; OA08-48-002.

Applicants: Tucson Electric Power Company, UNS Electric, Inc.

Description: Tucson Electric Power Company et al. submits revised Attachment K tariff sheets to their respective Open Access Transmission Tariffs.

Filed Date: 09/14/2009.

Accession Number: 20090916-0016.

Comment Date: 5 p.m. Eastern Time on Monday, October 05, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-22997 Filed 9-23-09; 8:45 am]

BILLING CODE 6717-01-P